DEPARTMENT OF COMMERCE

National Oceanic and Atmospheric Administration

Review of Nomination for Mariana Trench National Marine Sanctuary

AGENCY: Office of National Marine Sanctuaries (ONMS), National Ocean Service (NOS), National Oceanic and Atmospheric Administration (NOAA), Department of Commerce (DOC).

ACTION: Notice.

SUMMARY: On January 21, 2022, NOAA requested written comments to facilitate the Office of National Marine Sanctuaries' (ONMS) five-year review of the nomination for a proposed Mariana Trench National Marine Sanctuary (NMS). On March 10, 2022, NOAA reopened the public comment period for an additional 45 days, ending on April 25, 2022. In those notices, NOAA requested relevant information as it pertains to its 11 evaluation criteria for inclusion in the inventory of sites eligible to be considered for designation as national marine sanctuaries. NOAA has synthesized the information gathered through the public process, completed an internal analysis, and the ONMS Director has made the determination that the Mariana Trench NMS nomination will be removed from the inventory.

DATES: This determination took effect on September 7, 2023.

ADDRESSES: Kristina Kekuewa, Pacific Islands Regional Director, NOAA Office of National Marine Sanctuaries, 1845 Wasp Blvd., Honolulu, Hawaii 96818, or at kristina.kekuewa@noaa.gov, or at 808-725-5252.

FOR FURTHER INFORMATION CONTACT: Kristina Kekuewa, Pacific Islands Regional Director, NOAA Office of National Marine Sanctuaries, 1845 Wasp Blvd., Honolulu, Hawaii 96818, or at kristina.kekuewa@noaa.gov, or at 808-725-5252.

SUPPLEMENTARY INFORMATION:

Background Information

In 2014, NOAA issued a final rule re-establishing the sanctuary nomination process (SNP), which details how communities may submit nominations of areas of the marine and Great Lakes environment for NOAA to consider for designation as national marine sanctuaries (79 FR 33851). NOAA moves successful nominations to an inventory of areas that could be considered for national marine sanctuary designation. The final rule re-establishing the SNP included a five-year limit on any nomination added to the inventory that NOAA does not advance for designation. The nomination for Mariana Trench NMS was accepted to the national inventory on March 13, 2017, and was therefore scheduled to expire in March 2022.

In November 2019, NOAA issued a notice (84 FR 61546) to clarify procedures for evaluating and updating a nomination as it approaches the five-year mark on the inventory of areas that could be considered for national marine sanctuary designation. This notice explained that if a nomination remains responsive to the 11 evaluation criteria for inclusion on the inventory, it may be appropriate to allow the nomination to remain on the inventory for another five years. The notice also established a process for NOAA to consider the continuing viability of nominations nearing the five-year expiration mark. The 11 evaluation criteria can be found at https://nominate.noaa.gov.

On January 21, 2022, NOAA published a notice in the Federal Register to request written comments to facilitate ONMS' five-year review of the nomination of the Mariana Trench NMS (87 FR 3284). On March 10, 2022, following requests from the public for additional time to comment on the five-year review, NOAA reopened the public comment period for an additional 45 days, ending on April 25, 2022 (87 FR 13709). NOAA requested relevant information pertaining to the 11 evaluation criteria that NOAA applied to evaluate the Mariana Trench NMS nomination for inclusion in the national inventory of areas that NOAA may consider for future designation as a national marine sanctuary. During the two comment periods, 62 online comments were received, and the nominator provided additional information, which NOAA has considered in evaluating the nomination against the criteria. Submitted comments can be found at www.regulations.gov (search for Docket Number NOAA-NOS-2022-0005). Additionally, the nominating organization subsequently submitted a letter to NOAA requesting that the nomination be withdrawn and removed from the inventory.

In analyzing this material, particular attention was given to new scientific information about the national significance of natural and cultural resources, increases or decreases in the threats to resources proposed for protection, and changes to the management framework of the area. NOAA also assessed the level of community-based support for the nomination from a broad range of interests.

Following NOAA's review of the relevant information, it was determined that there are still significant threats to the area, and it is still an area of national significance. However, there is not currently demonstrated broad community support for the nomination remaining on the inventory of possible designations. ONMS has also determined that it is not clear, at this time, how a sanctuary designation would supplement or complement existing management and regulatory authorities for the Marianas Trench. Therefore, and in consideration of the nominating organization's request to withdraw the nomination, the ONMS Director has determined the nomination for the Mariana Trench NMS should not remain on the inventory of successful nominations.

Authority: 16 U.S.C. 1431 et seq.

John Armor,
Director, Office of National Marine Sanctuaries, National Ocean Service, National Oceanic and Atmospheric Administration.

[FR Doc. 2023-19380 Filed 9-8-23; 8:45 am]

BILLING CODE 3510-NK-P